DEPARTMENT OF COMMERCE

National Oceanic and Atmospheric Administration

50 CFR Part 660

[I.D. 111505A]

Pacific Fishery Management Council; Notice of Intent

AGENCY: National Marine Fisheries Service (NMFS), National Oceanic and Atmospheric Administration (NOAA), Commerce.

ACTION: Notice of intent to prepare an environmental impact statement (EIS); request for comments; preliminary notice of public scoping meetings.

SUMMARY: NMFS and the Pacific Fishery Management Council (Pacific Council) announce their intent to prepare an EIS in accordance with the National Environmental Policy Act (NEPA) of 1969 to analyze proposals to allocate groundfish among various sectors of the non-tribal Pacific Coast groundfish fishery.

DATES: Public scoping meetings will be announced in the Federal Register at a later date. Written comments will be accepted at the Pacific Council office through February 8, 2006.

ADDRESSES: You may submit comments, on issues and alternatives, identified by 111505A by any of the following methods:

• E-mail: ##GFAllocationEIS.nwr@noaa.gov. Include [111505A] and enter “Scoping Comments” in the subject line of the message.

• Federal eRulemaking Portal: http://www.regulations.gov.

• Fax: 503-820-2299.

• Mail: Dr. Donald McIsaac, Pacific Fishery Management Council, 7700 NE Ambassador Pl., Suite 200, Portland, OR, 97220.

FOR FURTHER INFORMATION CONTACT: Mr. John DeVore, Pacific Fishery Management Council, phone: 503-820-2280, fax: 503-820-2299 and email: john.devore@noaa.gov; or Yvonne de Reynier NMFS, Northwest Region, phone: 206-526-6129, fax: 206-526-6426 and email: yvonne.dereynier@noaa.gov.

SUPPLEMENTARY INFORMATION:

Electronic Access

This Federal Register document is available on the Government Printing Office's website at: www.gpoaccess.gov/fr/index/html.

Description of the Proposal

The proposed action, which will be the subject of the EIS and considered by the Pacific Council for recommendation to NMFS, would establish new allocations among sectors of the groundfish fishery. Existing allocations may or may not be revised as part of the proposed action. These allocations are needed to support recent Pacific Council decisions to use sector-specific total catch limits (sector caps) to control bycatch (Bycatch Mitigation Program Final Environmental Impact Statement), would be useful in supporting the Pacific Council's biennial management decisions, and would be needed to support the trawl individual quota program currently under consideration in a separate, but closely related EIS.

General Background

The Pacific Council implemented a Pacific Coast Groundfish Fishery Management Plan (FMP) in 1982. Groundfish stocks are harvested in numerous commercial, recreational, and tribal fisheries in state and Federal waters off the West Coast. The non-tribal commercial seafood fleet taking groundfish is generally regulated as three sectors: Limited entry trawl, limited entry fixed gear, and directed open access. Groundfish are also harvested incidentally in non-groundfish commercial fisheries, most notably fisheries for pink shrimp, spot and ridgeback prawns, Pacific halibut, California halibut, and sea cucumbers (incidental open access fisheries). The recreational fleet also takes groundfish as targeted catch, as well as incidentally in, for example, salmon and halibut fisheries.

The Pacific Council has previously established a number of formal allocations among sectors.

• An allocation of sablefish between the fixed gear and trawl sectors was first established by emergency regulation in 1986. An adjustment was made on April 26, 1989, and the allocation has remained stable since then.

• Amendment 6 to the FMP (fully implemented in 1994 established rules for allocating any groundfish species between the limited entry and open access commercial fisheries based on relative catch histories of the two fleets from July 11, 1984 through August 1, 1988. Numerous groundfish species and species groups are allocated on the basis of this allocation rule.

• An allocation of whiting among domestic segments of the fleet was first established in 1991, when the joint venture fleet was entirely displaced by domestic processors. Several adjustments were made before the current allocation was established. The current allocation is among vessels delivering whiting shoreside, vessels delivering to motherships and catcher processors, and was first implemented for the 1997 fishery.

Other allocations are indirect and result from the preseason planning process. The management measures developed during the preseason process are intended to: achieve, but not exceed, optimum yields (OYs); prevent overfishing; rebuild overfished species; reduce and minimize the bycatch and discard of overfished and depleted stocks; provide equitable harvest opportunity for the recreational and commercial fishing sectors; and, within the commercial fisheries, achieve harvest guidelines and limited entry and open access allocations to the extent practicable. When this preseason process is complete, a table is developed (called the “score card”) which summarizes the expected harvest of overfished species for each segment of the fleet. During the year, the catch by each sector is estimated, and adjustments to the score card are made using inseason information. If it appears the OY for an overfished species may be exceeded, the Pacific Council recommends changes to the management measures based on the same criteria used during the preseason process. As part of this inseason process, the expected harvests on the scorecard for each sector may be adjusted upwards or downwards. The explicit allocations that would be established under the proposed action would replace some or all of those that are currently the indirect result of the preseason planning process and management regulations flowing from that process.

Allocations among sectors will be needed to support Pacific Council policies for managing bycatch. In September 2004, NMFS released the Bycatch Mitigation Program Final Environmental Impact Statement (FEIS), containing the Pacific Council's preferred alternative. The Pacific Council is developing Amendment 18 to the groundfish FMP to implement this alternative. Among other things, Amendment 18 will add language to authorize the use of sector-specific and vessel-specific total catch limit programs to reduce bycatch in appropriate sectors of the fishery and support the future use of individual fishing quota (IFQ) programs as bycatch reduction tools for appropriate fishery sectors.

The Pacific Council embarked on its most recent consideration of individual quotas for the trawl fishery (a kind of dedicated access privilege) in September 2003. After conducting preliminary internal scoping, the Pacific Council announced its intent to prepare an EIS on dedicated access privileges in a Federal Register document published on May 24, 2004 (69 FR 29482-29485). The comment period on scoping for that EIS was closed on August 2, 2004, and the Pacific Council and its advisory bodies began their review of comments received. At its June 2005 meeting, the Pacific Council adopted a range of alternatives for an EIS. These alternatives focus on IFQs as the main kind of dedicated access privilege the Pacific Council will be considering. The Pacific Council may or may not eventually adopt an IFQ program; however, before such a program can be implemented, allocations will need to be established between the trawl fleet and other segments of the fishery.

Preliminary Identification of Alternatives

NEPA requires preparation of an EIS for major Federal actions significantly affecting the quality of the human environment. The Pacific Council and NMFS are seeking information from the public on the range of alternatives and on the environmental, social, and economic issues to be considered.

Alternatives should meet the need for allocations to support the Pacific Council's biennial allocation decisions, implementation of Amendment 18 sector caps to control bycatch, and implementation of a potential trawl IFQ program. Allocation alternatives should promote the goals and objectives contained in the groundfish FMP, available from the Pacific Council website (www.pcouncil.org), and should be consistent with the national standards established under the Magnuson-Stevens Fishery Conservation and Management Act.

The Pacific Council's Groundfish Allocation Committee (Allocation Committee) has met twice to conduct some preliminary scoping on the issue (January 26-27, 2005 and May 2-3, 2005). The Allocation Committee has recommended that initial analyses of sector total catch limits should be done using the following ten sectors: limited entry trawl, limited entry fixed gear longline, limited entry fixed gear pot/trap, whiting motherships, whiting catcher/processors, whiting shore-based, open access directed groundfish, open access incidental groundfish, tribal, and recreational. However, with respect to the allocations needed to support the trawl IQ decisions, the Allocation Committee recommended examination of the following sectors: limited entry trawl, limited entry fixed gear, open access, recreational, and tribal. Allocations to the tribal sector would not be set as part of an intersector allocation formula or schedule. Tribal allocation would be set according to the case law interpreting the treaties between the United States and the Northwest treaty Indian tribes. The amounts eventually set aside for the tribes would be deducted from the totals before applying rules for allocation among sectors.

At its meetings, the Allocation Committee requested additional data on harvest history by segments of the fishery. These data will likely be available for a tentatively scheduled November 14-15, 2005, meeting and will be available to any person who would like to take the data into consideration when providing comments.

The Allocation Committee is considering use of a 5-year outlook when considering the shape of the fishery that the allocations would be intended to support. It is also considering a recommendation that allocations be reviewed every four to six years. However, allocations of some target species, especially target species that are predominant in a single sector, may be of longer duration than allocations of more constraining species, such as the overfished species. Different approaches may be used for different species. Allocations based on a percentage of the OY may make the most sense for target species, while a sliding scale structure (e.g., the allocation percentage by sector varies with biomass) may make the most sense for allocating overfished species.

The EIS will identify and evaluate reasonable alternatives that might be used to achieve the needed allocations. The Pacific Council is interested in public comment on alternatives that it should consider.

Preliminary Identification of Environmental Issues

A principal objective of this scoping and public input process is to identify potentially significant impacts to the human environment that should be analyzed in depth in the intersector allocation EIS. Concomitant with identification of those impacts to be analyzed in depth is identification and elimination from detailed study of issues that are not significant or which have been covered in prior environmental reviews. This narrowing is intended to allow greater focus on those impacts that are potentially most significant. Impacts on the following components of the biological and physical environment will be evaluated: (1) essential fish habitat and ecosystems; (2) protected species listed under the Endangered Species Act and Marine Mammal Protection Act and their habitat; and (3) the fishery management unit, including target and non-target fish stocks. Socioeconomic impacts are also considered in terms of the effect changes will have on the following groups: (1) those who participate in harvesting the fishery resources and other living marine resources (for commercial, subsistence, or recreational purposes); (2) those who process and market fish and fish products; (3) those who are involved in allied support industries; (4) those who rely on living marine resources in the management area; (5) those who consume fish products; (6) those who benefit from non-consumptive use (e.g., wildlife viewing); (7) those who do not use the resource, but derive benefit from it by virtue of its existence, the option to use it, or the bequest of the resource to future generations; (8) those involved in managing and monitoring fisheries; and (9) fishing communities. Analysis of the effects of the alternatives on these groups will be presented in a manner that allows the identification of any disproportionate impacts on low income and minority segments of the identified groups, impacts on small entities, and cumulative impacts. Additional comment is sought on other types of impacts that should be considered or specific impacts to which particular attention should be paid within these categories.

Related NEPA Analyses

The proposed allocation action is necessary to fully implement the bycatch management policy decision made under the Bycatch Mitigation Program FEIS. The allocations proposed are necessary to implement the sector cap policies adopted and information in the bycatch EIS may be used to support the allocation action.

The intersector allocation EIS is also expected to support the Pacific Council's biennial process for managing groundfish. The intersector allocations will reduce the scope of actions that must be covered by the biennial management decisions, and analysis produced in this EIS will contribute information in support of the environmental assessments or EISs developed for those actions.

Finally, the intersector allocation EIS is complementary and closely related to the EIS for dedicated access privileges, and the proposed allocation action would be necessary for full implementation of an IFQ or other type of dedicated access privilege program. As described in the notice of intent to prepare an EIS on dedicated access privileges for the trawl fishery (69 FR 29482), implementation of an IFQ program or an alternative dedicated access privilege program for the trawl fishery will be a two-step process. The first step was to design the basic program and its major elements (e.g., allocation of shares among participants, monitoring and reporting requirements, and species to be allocated). The Pacific Council has selected a set of alternatives for analysis in a dedicated access privilege EIS, and drafting of that EIS is expected to commence shortly. With this notice, the Pacific Council and NMFS are seeking comments on the second step: determination of the amounts of each species that are to be allocated to the trawl and other sectors.

Scoping and Public Involvement

Scoping is an early and open process for identifying the scope of notable issues related to proposed alternatives (including status quo and other alternatives identified during the scoping process). A principal objective of the scoping and public input process is to identify a reasonable set of alternatives that, with adequate analysis, sharply define critical issues and provide a clear basis for distinguishing among those alternatives and selecting a preferred alternative. The public scoping process provides the public with the opportunity to comment on the range of alternatives. The scope of the alternatives to be analyzed should be broad enough for the Pacific Council and NMFS to make informed decisions on whether an alternative should be developed and, if so, how it should be designed, and to assess other changes to the FMP and regulations necessary for the implementation of the alternative.

To provide additional preliminary information for the public scoping document, the Pacific Council's Allocation Committee has been tentatively scheduled to meet November 14-15, 2005. Information presented at this meeting will be available to the general public for review and may be requested through the Pacific Council office (see ADDRESSES) or from the Pacific Council website (www.pcouncil.org).

Written comments will be accepted at the Pacific Council office through February 8, 2006 (see ADDRESSES). Public scoping meetings will be announced in the Federal Register at a later date and posted on the Pacific Council website.

Authority: 16 U.S.C. 1801 et seq.

Dated: November 15, 2005.
Alan D. Risenhoover,
Acting Director, Office of Sustainable Fisheries, National Marine Fisheries Service.

[FR Doc. 05-22992 Filed 11-18-05; 8:45 am]

BILLING CODE 3510-22-S